DEPARTMENT OF TRANSPORTATION

Maritime Administration

Marine Transportation System National Advisory Council

ACTION: National Advisory Council Public Meeting.

SUMMARY: The Maritime Administration announces that the Marine Transportation System National Advisory Council (MTSNAC) will hold a meeting to assess its priorities for the coming year, and to discuss other issues of importance to the Marine Transportation System. A public comment period is scheduled for 11 a.m.-11:30 a.m. on Friday, July 24, 2009. To provide time for as many people to speak as possible, speaking time for each individual will be limited to three minutes. Members of the public who would like to speak are asked to contact Richard J. Lolich by July 17, 2009. Commenters will be placed on the agenda in the order in which notifications are received. If time allows, additional comments will be permitted. Copies of oral comments must be submitted in writing at the meeting. Additional written comments are welcome and must be filed by August 4, 2009.

DATES: The meeting will be held on Thursday, July 23, 2009, from 9 a.m. to 5 p.m. and Friday, July 24, 2009, from 9 a.m. to 12 p.m.

ADDRESSES: The meeting will be held in the Media Center at the U.S. Department of Transportation Headquarters, 1200 New Jersey Ave., SE., Washington, DC 20590.

FOR FURTHER INFORMATION CONTACT: Richard Lolich, (202) 366-0704; Maritime Administration, MAR-540, Room W21-310, 1200 New Jersey Ave., SE., Washington, DC 20590-0001; richard.lolich@dot.gov.

Authority: 5 U.S.C. App 2, Sec. 9(a)(2); 41 CFR 101-6. 1005; DOT Order 1120.3B.

Dated: July 1, 2009.
Christine Gurland,
Acting Secretary, Maritime Administration.

[FR Doc. E9-16253 Filed 7-8-09; 8:45 am]

BILLING CODE 4910-81-P